DEPARTMENT OF VETERANS AFFAIRS

[OMB Control No. 2900-0862]

Agency Information Collection Activity: Decision Review Request: Higher-Level Review

AGENCY: Veterans Benefits Administration, Department of Veterans Affairs.

ACTION: Notice.

SUMMARY: Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice.

DATES: Written comments and recommendations on the proposed collection of information should be received on or before February 16, 2021.

ADDRESSES: Submit written comments on the collection of information through Federal Docket Management System (FDMS) at www.Regulations.gov or to Nancy J. Kessinger, Veterans Benefits Administration (20M33), Department of Veterans Affairs, 810 Vermont Avenue NW, Washington, DC 20420 or email to nancy.kessinger@va.gov. Please refer to “OMB Control No. 2900-0862” in any correspondence. During the comment period, comments may be viewed online through FDMS.

FOR FURTHER INFORMATION CONTACT: Nancy J. Kessinger, (202) 632-8924.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: Public Law 115-55; 38 U.S.C. 3501-3521.

Title: Decision Review Request: Higher-Level Review (VA Form 20-0996).

OMB Control Number: 2900-0862.

Type of Review: Revision of a currently approved collection.

Abstract: VA Form 20-0996, Decision Review Request: Higher-Level Review is used by a claimant to formally request a Higher-Level Review of an initial VA decision, in accordance with the Appeals Modernization Act. The information collected is used by VA to identify the issues in dispute which the claimant seeks review of in the Higher-Level Review Lane. Additionally, the information collected is used to schedule a telephonic informal conference, when requested.

This is revision to the form. Changes include significant revisions to the instructions section to make them easier to understand. New sections were added to the form to provide clarify and easier completion: Claimant's Identification Information, Benefit Type, SOC/SSOC Opt-In from Legacy Appeals System, and Authorized Representative Signature. The section on requesting informal conferences was edited to make it easier to understand and complete. Examples were added to the Issues for Higher-Level Review section. Formatting changes were made to simplify the form. Optical character recognition boxes were added to assist scanning technology.

There is a decrease in the respondent burden because the associated control number originally included two forms but we are using this revision to separate the two forms into two control numbers and only VA Form 20-0996 will remain under the current control number.

Affected Public: Individuals and households.

Estimated Annual Burden: 23,375 hours.

Estimated Average Burden per Respondent: 15 minutes.

Frequency of Response: On occasion.

Estimated Number of Respondents: 85,500.

By direction of the Secretary:
Danny S. Green,
VA PRA Clearance Officer, Office of Quality, Performance and Risk, Department of Veterans Affairs.

[FR Doc. 2020-27467 Filed 12-14-20; 8:45 am]

BILLING CODE 8320-01-P